DEPARTMENT OF HOMELAND SECURITY

Federal Emergency Management Agency

44 CFR Part 67

[Docket No. FEMA-B-7733 and FEMA-D-7816]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | Elevation in feet(NGVD)+Elevation in feet(NAVD)#Depth in feet above ground: Effective | Elevation in feet(NGVD)+Elevation in feet(NAVD)#Depth in feet above ground: Modified | Communities affected
Lowndes County, Georgia, and Incorporated Areas
Sugar Creek | At Baytree Road | None | *145 | City of Remerton.
| Approximately 1,100 feet downstream of the confluence of One Mile Branch | None | *148 |
* National Geodetic Vertical Datum.
# Depth in feet above ground.
+ North American Vertical Datum.
ADDRESSES
City of Remerton
Maps are available for inspection at 1757 Poplar Street, Remerton, GA 31601.
Send comments to The Honorable Peggy Seifert, Mayor, City of Remerton, 1757 Poplar Street, Remerton, GA 31601.
Stanly County, North Carolina and Incorporated Areas
Big Bear Creek | At the confluence with Long Creek | None | +295 | Unincorporated Areas of Stanly County.
| Approximately 1,350 feet upstream of State Highway 49 | None | +645 |
Tributary 1 | At the confluence with Big Bear Creek | None | +369 | Unincorporated Areas of Stanly County.
| Approximately 0.5 mile upstream of the confluence with Big Bear Creek | None | +384 |
Tributary 2 | At the confluence with Big Bear Creek | None | +395 | Unincorporated Areas of Stanly County.
| Approximately 0.6 mile upstream of the confluence with Big Bear Creek | None | +426 |
Tributary 3 | At the confluence with Big Bear Creek | None | +441 | Unincorporated Areas of Stanly County.
| Approximately 710 feet upstream of Peaceful Lane | None | +483 |
Tributary 4 | At the confluence with Big Bear Creek | None | +580 | Unincorporated Areas of Stanly County.
| Approximately 1.0 mile upstream of Ridenhour Road (State Road 1433) | None | +606 |
Big Cedar Creek | At the confluence with Rocky River | None | +227 | Unincorporated Areas of Stanly County.
| Approximately 1,240 feet upstream of West Whitley Street (State Road 1933) | None | +283 |
Tributary 1 | At the confluence with Big Cedar Creek | None | +229 | Unincorporated Areas of Stanly County.
| Approximately 0.4 mile upstream of the confluence with Big Cedar Creek | None | +241 |
Camp Branch | At the confluence with Rocky River | None | +449 | Unincorporated Areas of Stanly County.
| Approximately 60 feet downstream of Tite Road (State Road 1152) | None | +455 |
Cedar Creek | At the confluence with Pee Dee River (Lake Tillery) | None | +279 | Unincorporated Areas of Stanly County, Town of Norwood.
| Approximately 0.6 mile upstream of Railroad | None | +422 |
Coldwater Branch | At the confluence with Rocky River | None | +327 | Unincorporated Areas of Stanly County.
| Approximately 340 feet upstream of Old Sandbar Road (State Road 1100) | None | +330 |
Coopers Creek | At the confluence with Rocky River | None | +254 | Unincorporated Areas of Stanly County.
| Approximately 1.1 miles upstream of Old Davis Road (State Road 1943) | None | +328 |
Curl Tail Creek | At the confluence with Riles Creek | None | +572 | Unincorporated Areas of Stanly County, Town of Richfield, Village of Misenheimer.
| Approximately 510 feet downstream of Merner Terrace | None | +655 |
East Prong Rock Hole Creek | At the confluence with Rock Hole Creek | None | +488 | Unincorporated Areas of Stanly County, Town of Stanfield.
| Approximately 0.5 mile upstream of West Stanly Street | None | +569 |
Hardy Creek | At the confluence with Rocky River | None | +240 | Unincorporated Areas of Stanly County.
| Approximately 150 feet upstream of the confluence of Ugly Creek | None | +383 |
Island Creek | At the confluence with Rocky River | None | +354 | Unincorporated Areas of Stanly County, City of Locust.
| Approximately 1.1 miles upstream of Pless Mill Road (State Road 1136) | None | +537 |
Tributary 1 | At the confluence with Island Creek | None | +368 | Unincorporated Areas of Stanly County.
| Approximately 520 feet downstream of Drye-Hill Road (State Road 1120) | None | +412 |
Tributary 2 | At the confluence with Island Creek | None | +388 | Unincorporated Areas of Stanly County.
| Approximately 0.4 mile upstream of the confluence with Island Creek | None | +412 |
Jacks Branch | At the confluence with Rocky River | None | +252 | Unincorporated Areas of Stanly County.
| Approximately 1.1 miles upstream of the confluence with Rocky River | None | +281 |
Jacobs Creek | At the confluence with Pee Dee River (Lake Tillery) | None | +279 | Unincorporated Areas of Stanly County, City of Albemarle.
| Approximately 2.5 miles upstream of Indian Mound Road (State Road 1740) | None | +379 |
Little Bear Creek (North) | At the confluence with Big Bear Creek | None | +470 | Unincorporated Areas of Stanly County.
| Approximately 450 feet upstream of NC 73 Highway | None | +523 |
Little Bear Creek (South) | At the confluence with Long Creek | None | +334 | Unincorporated Areas of Stanly County.
| Approximately 1.7 miles upstream of Canton Road (State Road 1249) | None | +524 |
South Tributary 1 | At the confluence with Little Bear Creek (South) | None | +417 | Unincorporated Areas of Stanly County.
| Approximately 600 feet upstream of NC 24-27 Highway | None | +443 |
South Tributary 2 | At the confluence with Little Bear Creek (South) | None | +452 | Unincorporated Areas of Stanly County.
| Approximately 1,170 feet upstream of Canton Road (State Road 1249) | None | +510 |
Little Cedar Creek | At the confluence with Rocky River | None | +226 | Unincorporated Areas of Stanly County, Town of Norwood.
| Approximately 0.4 mile upstream of U.S. Highway 52 | None | +266 |
Little Creek (North) | At the confluence with Big Bear Creek | None | +444 | Unincorporated Areas of Stanly County.
| Approximately 1,220 feet upstream of Old Concord Road (State Road 1236) | None | +551 |
Little Creek (South) | At the confluence with Long Creek | None | +302 | Unincorporated Areas of Stanly County.
| Approximately 900 feet upstream of Western Road (State Road 1959) | None | +425 |
Little Long Creek | Approximately 450 feet downstream of Efird Street | +428 | +429 | Unincorporated Areas of Stanly County, City of Albemarle, Town of New London.
| Approximately 1,480 feet upstream of Railroad | None | +569 |
Little Meadow Creek | Approximately 1.1 miles downstream of State Highway 200 | None | +551 | City of Locust.
| Approximately 1,200 feet downstream of Mauney Road (State Road 2625) | None | +581 |
Little Mountain Creek | At the confluence with Mountain Creek | None | +384 | Unincorporated Areas of Stanly County, Town of Badin.
| Approximately 1.1 miles upstream of Barnhardt Road (State Road 1545) | None | +588 |
Long Creek | At the confluence with Rocky River | None | +284 | Unincorporated Areas of Stanly County, City of Albemarle, Town of Richfield, Village of Misenheimer.
| Approximately 0.7 mile upstream of Matton Grove Church Road (State Road 1454) | None | +637 |
Tributary 1 | Approximately 500 feet upstream of the confluence with Long Creek | None | +484 | Unincorporated Areas of Stanly County.
| Approximately 1,170 feet upstream of Pennington Road (State Road 1401) | None | +509 |
Tributary 2 | Approximately 1,500 feet upstream of the confluence with Long Creek | None | +485 | Unincorporated Areas of Stanly County.
| Approximately 0.9 mile upstream of the confluence with Long Creek | None | +508 |
Tributary 3 | At the confluence with Long Creek | None | +530 | Unincorporated Areas of Stanly County.
| Approximately 650 feet downstream of Sunnybrook Road | None | +553 |
Meadow Creek | At the upstream side of Reed Mine Road (State Road 1100) | None | +495 | City of Locust.
| Approximately 0.9 mile upstream of Reed Mine Road (State Road 1100) | None | +511 |
Melchor Branch | At the confluence with Little Long Creek | +446 | +448 | City of Albemarle.
| Approximately 480 feet upstream of North Sixth Street | +487 | +486 |
Tributary 1 | Just upstream of Fox Run Drive | +514 | +524 | City of Albemarle.
| Approximately 160 feet upstream of Montgomery Avenue | None | +557 |
Tributary 1A | At the confluence with Melchor Branch Tributary 1 | None | +536 | City of Albemarle.
| Approximately 550 feet upstream of Montgomery Avenue | None | +554 |
Mountain Creek | At the confluence with Pee Dee River | None | +284 | Unincorporated Areas of Stanly County, City of Albemarle.
| Approximately 60 feet upstream of State Highway 740 | None | +708 |
Tributary 1 | At the confluence with Mountain Creek | None | +377 | Unincorporated Areas of Stanly County.
| Approximately 300 feet upstream of Stony Hill Road (State Road 1729) | None | +407 |
Pee Dee River | At the Anson/Montgomery/Richmond/Stanly County boundary | None | +220 | Unincorporated Areas of Stanly County, Town of Norwood.
| At the confluence of Yadkin River and Uwharrie River | None | +287 |
Tributary 6 | At the confluence with Pee Dee River | None | +229 | Unincorporated Areas of Stanly County.
| Approximately 150 feet upstream of Railroad | None | +264 |
Pole Bridge Creek | At the confluence with Little Bear Creek (North) | None | +477 | Unincorporated Areas of Stanly County.
| Approximately 0.7 mile upstream of Lambert Road (State Road 1231) | None | +570 |
Poplin Creek | At Aquadale Road | +428 | +429 | City of Albemarle.
| Approximately 630 feet upstream of Dr. Martin Luther King Jr. Drive | None | +501 |
Tributary 1 | Approximately 250 feet upstream of the confluence with Poplin Creek | None | +428 | City of Albemarle.
| Approximately 300 feet upstream of East North Street | None | +483 |
Pumpkin Creek | At the confluence with Rocky River | None | +426 | Unincorporated Areas of Stanly County.
| Approximately 0.5 mile upstream of the confluence with Rocky River | None | +444 |
Ramsey Creek | At the confluence with Big Bear Creek | None | +369 | Unincorporated Areas of Stanly County.
| Approximately 1,270 feet upstream of Canton Road (State Road 1249) | None | +543 |
Riles Creek | Approximately 500 feet upstream of Rowan/Stanly County boundary | None | +572 | Unincorporated Areas of Stanly County, Town of Richfield.
| Approximately 1.3 miles upstream of Willie Road | None | +590 |
Rock Creek | At the upstream side of Rock Creek Park Drive | +429 | +430 | Unincorporated Areas of Stanly County, City of Albemarle.
| Approximately 1,000 feet upstream of Railroad | None | +446 |
Rock Hole Branch | At the confluence with Rock Hole Creek | None | +458 | Unincorporated Areas of Stanly County, Town of Stanfield.
| Approximately 2.3 miles upstream of the confluence with Rock Hole Creek | None | +544 |
Rock Hole Creek | At the confluence with Rocky River | None | +367 | Unincorporated Areas of Stanly County, Town of Stanfield.
| Approximately 480 feet upstream of Polk Ford Road | None | +489 |
Rocky River | At the confluence with Pee Dee River | None | +220 | Unincorporated Areas of Stanly County.
| Approximately 0.8 mile upstream of the confluence of Muddy Creek | +482 | +481 |
Tributary 1 | At the confluence with Rocky River | None | +220 | Unincorporated Areas of Stanly County.
| Approximately 0.8 mile upstream of the confluence with Rocky River | None | +245 |
Tributary 3 | At the confluence with Rocky River | None | +237 | Unincorporated Areas of Stanly County.
| Approximately 710 feet upstream of Loop Road (State Road 1982) | None | +248 |
Tributary 8 | At the confluence with Rocky River | None | +350 | Unincorporated Areas of Stanly County.
| Approximately 0.5 mile upstream of the confluence with Rocky River | None | +364 |
Running Creek | At the confluence with Big Bear Creek | None | +467 | Unincorporated Areas of Stanly County.
| Approximately 0.8 mile upstream of Five Point Road (State Road 1206) | None | +540 |
Scaly Bark Creek | At the confluence with Long Creek | None | +384 | Unincorporated Areas of Stanly County.
| Approximately 0.9 mile upstream of St. Martin Road (State Road 1963) | None | +416 |
South Ugly Creek | At the confluence with Hardy Creek | None | +268 | Unincorporated Areas of Stanly County.
| Approximately 1.1 miles upstream of the confluence with Hardy Creek | None | +311 |
Stony Run | At the confluence with Big Bear Creek | None | +339 | Unincorporated Areas of Stanly County, Town of Oakboro, Town of Red Cross.
| Approximately 140 feet upstream of Running Creek Church Road (State Road 1134) | None | +636 |
Tributary 1 | At the confluence with Stony Run | None | +445 | Unincorporated Areas of Stanly County.
| Approximately 1,120 feet upstream of Liberty Hill Church Road (State Road 1115) | None | +469
Town Creek | At the confluence with Little Long Creek | +446 | +448 | Unincorporated Areas of Stanly County, City of Albemarle, Town of New London.
| Approximately 1,890 feet upstream of Henderson Road (State Road 1436) | None | +530 |
Tributary 1 | At the confluence with Town Creek | None | +516 | Unincorporated Areas of Stanly County.
| Approximately 1,060 feet upstream of Burris-Burleson Road (State Road 1437) | None | +546 |
Ugly Creek | At the confluence with Hardy Creek | None | +380 | Unincorporated Areas of Stanly County.
| Approximately 1,200 feet upstream of South Stanly School Road (State Road 1922) | None | +407 |
Yadkin River | At the confluence with Pee Dee River and Uwharrie River | None | +287 | Unincorporated Areas of Stanly County, Town of Badin.
| Approximately 500 feet downstream of State Highway 49/8 | None | +566
* National Geodetic Vertical Datum.
# Depth in feet above ground
+ North American Vertical Datum
ADDRESSES
City of Albemarle
Maps are available for inspection at City of Albemarle Engineering Department, 157 North Second Street, Albemarle, North Carolina.
Send comments to The Honorable Elbert Whitley, Mayor of the City of Albemarle, P.O. Box 190, Albemarle, North Carolina 28001.
City of Locust
Maps are available for inspection at Locust City Hall, 211 Town Centre, Locust, North Carolina.
Send comments to The Honorable Harold Greene, Mayor of the City of Locust, P.O. Box 190, Locust, North Carolina 28097.
Town of Badin
Maps are available for inspection at Badin Town Hall, 36 Falls Road, Badin, North Carolina.
Send comments to The Honorable James L. Harrison, Mayor of the Town of Badin, P.O. Box 707, Badin, North Carolina 28009.
Town of Norwood
Maps are available for inspection at Norwood Town Hall, Zoning Department, 116 South Main Street, Norwood, North Carolina.
Send comments to The Honorable Larry McMahon, Mayor of the Town of Norwood, P.O. Box 697, Norwood, North Carolina 28128.
Town of Oakboro
Maps are available for inspection at Oakboro Town Hall, 109A North Main Street, Oakboro, North Carolina.
Send comments to The Honorable Joe Lowder, Mayor of the Town of Oakboro, P.O. Box 610, Oakboro, North Carolina 28129.
Town of Red Cross
Maps are available for inspection at Red Cross Town Clerk's Residence, 680 West Red Cross Road, Oakboro, North Carolina.
Send comments to The Honorable Ray Quick, Mayor of the Town of Red Cross, 231 East Red Cross Road, Oakboro, North Carolina 28129.
Town of Richfield
Maps are available for inspection at Richfield Town Hall, 138 Highway 49 North, Richfield, North Carolina.
Send comments to The Honorable Wade Barbee, Mayor of the Town of Richfield, P.O. Box 158, Richfield, North Carolina 28137.
Town of Stanfield
Maps are available for inspection at Stanfield Town Hall, 203 West Stanly Street, Stanfield, North Carolina.
Send comments to The Honorable Kevin Barbee, Mayor of the Town of Stanfield, P.O. Box 699, Stanfield, North Carolina 28163.
Unincorporated Areas of Stanly County
Maps are available for inspection at Stanly County Planning and Zoning Department, 1000 North First Street, Albemarle, North Carolina.
Send comments to Mr. Jerry Myers, Stanly County Manager, 1000 North First Street, Albemarle, North Carolina 28001.
Village of Misenheimer
Maps are available for inspection at Misenheimer Town Hall, 48384 U.S. Highway 52 North, Misenheimer, North Carolina.
Send comments to The Honorable Peter Edquist, Mayor of the Village of Misenheimer, P.O. Box 100, Misenheimer, North Carolina 28109.
Williamson County, Illinois, and Incorporated Areas
Campground Creek | Where Main Street crosses over Campground Creek | None | +423 | Unincorporated Areas of Williamson County.
| 490 feet upstream of Main Street | None | +424 |
| 1090 feet upstream of Edgewood Park | None | +428 |
| 1160 feet upstream of Edgewood Park | None | +428 |
Crab Orchard Creek | 200 feet upstream of Fosse Road | None | +417 | Unincorporated Areas of Williamson County.
| Just Downstream of State Highway 13 | None | +430 |
East Fork Campground Creek | Where Main Street crosses East Fork Campground Creek | None | +423 | Unincorporated Areas of Williamson County 865 feet upstream of Belinda Road.
| 865 feet upstream of Belinda Road | None | +426 |
Lake Creek | Where Prosperity Road crosses Lake Creek | None | +402 | Unincorporated Areas of Williamson County.
| 650 feet upstream of Newton Avenue | None | +410 |
West Fork Campground Creek | Confluence with Campground Creek | None | +424 | Unincorporated Areas of Williamson County.
| 25 feet downstream of Honeysuckle Lane | None | +424 |
West Fork Westernaire Creek | Confluence with Westernaire Creek | None | +423 | Unincorporated Areas of Williamson County.
| 700 feet Downstream of Bainbridge Trail | None | +426 |
Westernaire Creek | Where Main Street crosses over Westernaire Creek | None | +421 | Unincorporated Areas of Williamson County.
| 750 feet upstream of DeYoung Street | None | +432
* National Geodetic Vertical Datum.
# Depth in feet above ground.
+ North American Vertical Datum.
ADDRESSES
Unincorporated Areas of Williamson County
Maps are available for inspection at Supervisor of Assessments Office, 200 West Jefferson, Marion, IL 62959.
Send comments to The Honorable Brent Gentry, County Board Chairman, Williamson County Courthouse, 200 West Jefferson, Marion, IL 62959.

(Catalog of Federal Domestic Assistance No. 97.022, “Flood Insurance.”)

Dated: August 21, 2007.
David I. Maurstad,
Federal Insurance Administrator of the National Flood Insurance Program, Department of Homeland Security, Federal Emergency Management Agency.

[FR Doc. E7-17346 Filed 8-30-07; 8:45 am]

BILLING CODE 9110-12-P